DEPARTMENT OF EDUCATION

[Docket No.: ED-2023-SCC-0130]

Agency Information Collection Activities; Comment Request; Stronger Connections Grant Program Annual Performance Report

AGENCY: Office of Elementary and Secondary Education (OESE), Department of Education (ED).

ACTION: Notice.

SUMMARY: In accordance with the Paperwork Reduction Act (PRA) of 1995, the Department is proposing a new information collection request (ICR).

DATES: Interested persons are invited to submit comments on or before September 11, 2023.

ADDRESSES: To access and review all the documents related to the information collection listed in this notice, please use https://www.regulations.gov by searching the Docket ID number ED-2023-SCC-0130. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Sarah Newman, 202-453-6956.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Stronger Connections Grant Program Annual Performance Report.

OMB Control Number: 1810-NEW.

Type of Review: A new ICR.

Respondents/Affected Public: Individuals and Households.

Total Estimated Number of Annual Responses: 10,053.

Total Estimated Number of Annual Burden Hours: 40,636.

Abstract: The Bipartisan Safer Communities Act (BSCA) provides $1 billion in funding to State educational agencies (SEAs) to be distributed under Title IV, Part A of the Elementary and Secondary Education Act of 1965 (ESEA). The BSCA specifies that SEAs must make competitive subgrants to high-need local educational agencies (LEAs), as determined by the SEA, for activities to support safe and healthy students under section 4108 of the ESEA. The Department of Education has designated BSCA section 4108 funds as the Stronger Connections grant program.

This is a new information collection request for the Stronger Connections grant program annual performance reporting. Under the Education Department's General Administrative Regulations (EDGAR, Section 75.720), grantees shall submit annual performance reports. In addition, in order to receive a Stronger Connections grant award, SEAs were required to submit an assurance that the SEA will submit such other information as the Secretary may later require, such as (1) the identification of the LEAs awarded Stronger Connections grant funds, (2) how the SEA and its LEAs are using Stronger Connections grant funds, and (3) whether the SEA will evaluate the effectiveness of the Stronger Connections grant program, including the effectiveness of LEA use of Stronger Connections grant funds and, if so, how it will do so.

As part of the public comment period review, ED requests that SEAs and its other stakeholders respond to the directed questions found in Attachment A.

Dated: July 10, 2023.
Kun Mullan,
PRA Coordinator, Strategic Collections and Clearance Governance and Strategy Division, Office of Chief Data Officer, Office of Planning, Evaluation and Policy Development.

[FR Doc. 2023-14841 Filed 7-12-23; 8:45 am]

BILLING CODE 4000-01-P